SURFACE TRANSPORTATION BOARD

[Docket No. FD 36774]

Railmark Holdings, Inc.—Continuance in Control Exemption—Railmark Industrial Railway Inc. d/b/a Railmark Industrial Railway Inc. Mississippi Division

Railmark Holdings, Inc. (Railmark), a noncarrier, has filed a verified notice of exemption under 49 CFR 1180.2(d)(2) to continue in control of Railmark Industrial Railway Inc. d/b/a Railmark Industrial Railway Inc. Mississippi Division (RIR), upon RIR's becoming a Class III rail carrier. Railmark currently controls the Yreka Western Railroad (Yreka), a Class III carrier, which operates solely in the state of California.

This transaction is related to a concurrently filed verified notice of exemption in Railmark Industrial Railway—Change in Operator Exemption—Mississippi Central Railroad, Docket No. FD 36773, in which RIR seeks Board approval to lease and operate approximately 10 miles of rail line extending between Norfolk Southern Railway Company's “Iuka Wye” at milepost 0.0 and the Tri-State Commerce Park at approximately milepost 10.0 in Tishomingo County, Miss.

RIR represents that: (1) RIR does not connect with any of the railroads in Railmark's corporate family; (2) the transaction is not part of a series of anticipated transactions that would connect RIR with the rail lines of any other carrier in Railmark's corporate family; and (3) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Accordingly, because this transaction involves Class III rail carriers only, the Board may not impose labor protective conditions here.

The earliest this transaction may be consummated is June 5, 2024, the effective date of the exemption (30 days after the verified notice was filed). If the verified notice contains false or misleading information, the exemption is void ab initio. Petitions to revoke the exemption under 49 U.S.C. 10502(g) may be filed at any time. The filing of a petition to revoke will not automatically stay the effectiveness of the exemption. Petitions for stay must be filed by May 29, 2024 (at least seven days before the exemption becomes effective).

All pleadings, referring to Docket No. FD 36774, must be filed with the Surface Transportation Board either via e-filing on the Board's website or in writing addressed to 395 E Street SW, Washington, DC 20423-0001. In addition, a copy of each pleading must be served on Railmark's representative, Justin J. Marks, Clark Hill PLC, 1001 Pennsylvania Ave. NW, Suite 1300 South, Washington, DC 20004.

Board decisions and notices are available at www.stb.gov.

Decided: May 17, 2024.
By the Board, Scott M. Zimmerman, Acting Director, Office of Proceedings.
Kenyatta Clay,
Clearance Clerk.

[FR Doc. 2024-11239 Filed 5-21-24; 8:45 am]

BILLING CODE 4915-01-P